DEPARTMENT OF COMMERCE

Census Bureau

Proposed Information Collection; Comment Request; Survey of Income and Program Participation (SIPP) 2014 Panel

AGENCY: U.S. Census Bureau, Commerce.

ACTION: Notice.

SUMMARY: The Department of Commerce, as part of its continuing effort to reduce paperwork and respondent burden, invites the general public and other Federal agencies to take this opportunity to comment on the proposed Survey of Income and Program Participation 2014 Panel, as required by the Paperwork Reduction Act of 1995.

DATES: To ensure consideration, written comments must be submitted on or before May 27, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jason Fields, U.S. Census Bureau, ADDP, HQ-7H153, 4600 Silver Hill Road, Washington, DC 20233-0001 (301-763-2465 or via the Internet at Jason.M.Fields@census.gov).

SUPPLEMENTARY INFORMATION:

I. Abstract

The Census Bureau has completed two of four waves of the Survey of Income and Program Participation 2014 Panel (SIPP), which began in February 2014. Wave 1 of the SIPP 2014 Panel was conducted from February to June of 2014. Wave 2 was conducted from February to June of 2015. Wave 3 is scheduled to be conducted from April to June of 2016. Wave 4 is scheduled to be conducted from February to June of 2017. This notice is for a request to extend the current OMB approval, which expires on December 31, 2016, to December 31, 2019.

The SIPP is a household-based survey designed as a continuous series of national panels. The SIPP represents a source of information for a wide variety of topics and allows the integration of information for separate topics to form a single, unified database allowing for the examination of the interaction between tax, transfer, and other government and private policies. Government domestic policy formulators depend heavily upon SIPP information concerning the distribution of income received either directly as money or indirectly as in-kind benefits and the effect of tax and transfer programs on that distribution. They also need improved and expanded data on the income and general economic and financial situation of the U.S. population, which the SIPP has provided on a continuing basis since 1983. The SIPP has measured levels of economic well-being and permitted measurement of changes in these levels over time.

The 2014 SIPP interview includes a portion conducted using an Event History Calendar (EHC) that facilitates the collection of dates of events and spells of coverage. The EHC assists the respondent's ability to recall events accurately over the one year reference period and provides increased data quality and inter-topic consistency for dates reported by respondents. The EHC is intended to help respondents recall information in a more natural “autobiographical” manner by using life events as triggers to recall other economic events. The EHC was previously used in the 2010-2013 SIPP-EHC field tests in addition to 2014 Panel Waves 1 and 2. The 2014 Panel SIPP design does not contain freestanding topical modules; however, a portion of traditional SIPP topical module content is integrated into the 2014 SIPP Panel interview. Examples of this content include questions on medical expenses, child care, retirement and pension plan coverage, marital history, adult and child well-being, and others.

The 2014 SIPP Panel Wave 1 was a brand new sample with new survey respondents who were not previously interviewed. The 2014 SIPP Panel uses a revised interviewing method structure that follows adults (age 15 years and older) who move from the prior wave household. Consequently, Waves 2, 3, and 4 incorporate dependent data, which is information collected from the prior wave interview brought forward to the current interview.

The Census Bureau used and plans to continue using Computer Assisted Recorded Interview (CARI) technology for some of the respondents during the 2014 SIPP Panel. CARI is a data collection method that captures audio along with response data during computer-assisted personal and telephone interviews (CAPI & CATI). With the respondent's consent, a portion of each interview is recorded unobtrusively and both the sound file and screen images are returned with the response data to a central location for coding. By reviewing the recorded portions of the interview, quality assurance analysts can evaluate the likelihood that the exchange between the field representative and respondent is authentic and follows critical survey protocol as defined by the sponsor and based on best practices. During the 2014 SIPP Panel we are developing protocols to use the CARI Interactive Data Access System (CARI System), an innovative, integrated, multifaceted monitoring system that features a configurable web-based interface for behavior coding, quality assurance, and coaching. This system assists in coding interviews for measuring question and interviewer performance and the interaction between interviewers and respondents.

SIPP designed a multi-wave incentive experiment to evaluate the efficacy of incentives as a means of increasing respondent cooperation. In Wave 1, the panel was divided into four groups and each household was randomly assigned to one of the groups. Group 1 was the control group; households in this group were not to be eligible for an incentive in any wave of the 2014 panel. Group 2 was not eligible to receive an incentive in Wave 1, but was eligible for a $40 debit card for Wave 2. This group was used to test retroactively the efficacy of a propensity model. Group 3 was eligible to receive a $20 incentive in Wave 1, but was not eligible to receive a debit card in Wave 2. Group 4 was eligible to receive a $40 incentive in Wave 1. In Wave 2 Group 4 was split in two subgroups: A—did not receive a debit card; and B—was eligible for a $40 debit card. Consequently, in Wave 2 only two groups were eligible to receive debit cards (Group 2 and 4B).

For Wave 3 in 2016, Group 1 will continue as prior waves (no incentive), Group 4A will continue to receive a $40 debit card, and Group 4B will be determined using an adaptive model with the remaining groups. For those in the modeled groups, roughly 22,500 households, 30% will be eligible for incentives. Selection for the Wave 3 incentive in the modeled groups will be made using a propensity model process. For all waves, we distribute the incentives centrally from our National Processing Center. This centralized distribution eliminates any discretion on the part of the field representatives, ensuring that only eligible households are given (or promised) incentives.

Approximately 30,500 households are expected to be interviewed for the 2014 SIPP Panel Waves 3 and 4. We estimate that each household contains 2.1 people aged 15 and above, yielding approximately 64,050 person-level interviews per wave in this panel. Interviews take approximately 60 minutes per adult on average, consequently the total annual burden for 2014 SIPP-EHC interviews will be 64,050 hours per year.

II. Method of Collection

The 2014 SIPP Panel instrument consists of one interview per person per wave (year) resulting in four total interviews over the life of the panel. Each interview will reference the previous calendar year depending on the wave. The interview is conducted in person with all household members 15 years old or over using regular proxy-respondent rules. In the instances where the residence is not accessible or the respondent makes a request the interview may be conducted by telephone.

III. Data

OMB Control Number: 0607-0977.

Form Number(s): SIPP/CAPI Automated Instrument.

Type of Review: Regular submission.

Affected Public: Individuals or households.

Estimated Number of Respondents: 64,050.

Estimated Time per Response: 60 minutes per person on average.

Estimated Total Annual Burden Hours: 64,050.

Estimated Total Annual Cost to Public: $35,000,000.

Respondent's Obligation: Voluntary.

Legal Authority: 13 U.S.C. Section 182.

Confidentiality: The data collected under this agreement are confidential under 13 U.S.C. Section 9. All access to Title 13 data from this survey is restricted to those holding Census Bureau Special Sworn Status pursuant to 13 U.S.C. Section 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 23, 2016.
Glenna Mickelson,
Management Analyst, Office of the Chief Information Officer.

[FR Doc. 2016-06895 Filed 3-25-16; 8:45 am]

BILLING CODE 3510-07-P